DEPARTMENT OF COMMERCE

National Oceanic and Atmospheric Administration

[I.D. 032805A]

Atlantic Highly Migratory Species; Exempted Fishing Permits

AGENCY: National Marine Fisheries Service (NMFS), National Oceanic and Atmospheric Administration (NOAA), Commerce.

ACTION: Notice.

SUMMARY: NMFS has decided not to proceed at this time with issuing exempted fishing permits (EFPs) for conducting bycatch reduction research in the following regions of the Atlantic Ocean: North of Cape Hatteras, South of Cape Hatteras, and Gulf of Mexico (GOM) until such time as an Environmental Impact Statement (EIS) can be prepared to further assess the impacts associated with fishing in existing pelagic longline closed areas.

FOR FURTHER INFORMATION CONTACT: Heather Stirratt, 301-713-2347; fax: 301-713-1917.

SUPPLEMENTARY INFORMATION: EFPs are requested and issued under the authority of the Magnuson-Stevens Fishery Conservation and Management Act (16 U.S.C. 1801 et seq.) and/or the Atlantic Tunas Convention Act (16 U.S.C. 971 et seq.). Regulations at 50 CFR 600.745 and 50 CFR 635.32 govern scientific research activity, exempted fishing, and exempted educational activity with respect to Atlantic Highly Migratory Species (HMS).

Six Atlantic pelagic longline vessels requested exemptions from certain regulations applicable to the harvest and landing of Atlantic HMS in order to conduct bycatch reduction research in the following regions of the Atlantic Ocean: North of Cape Hatteras, South of Cape Hatteras, and GOM. Specifically, the permitted pelagic longline vessels proposed to test gear modifications and/or various fishing techniques to avoid incidentally-caught white marlin, blue marlin, bluefin tuna, and sea turtles, while allowing for the targeted catches of allowed species. The proposal included research in areas currently closed to pelagic longline fishing.

NMFS has considered the public comments received, as requested in the Federal Register (70 FR 17069) on April 4, 2005, and has decided not to proceed with issuing exempted fishing permits until such time as an EIS can be prepared to further assess the impacts associated with fishing in existing pelagic longline closed areas. NMFS believes that bycatch reduction research in the pelagic longline fishery is important to compare or evaluate different bycatch reduction fishing methodologies, explore new bycatch reduction gear technologies, and investigate ways to tailor and refine existing time/area closures. Thus, NMFS will proceed with bycatch reduction research in areas currently open to pelagic longline fishing. Bycatch reduction information will be gathered via research efforts conducted outside of closed areas, consistent with a NMFS-issued cooperative research grant. Further consideration of bycatch reduction research inside of closed areas may occur upon completion of an EIS.

Authority: 16 U.S.C. 971 et seq. and 16 U.S.C. 1801 et seq.

Dated: May 3, 2005.
John H. Dunnigan
Director, Office of Sustainable Fisheries, National Marine Fisheries Service.

[FR Doc. 05-9147 Filed 5-3-05; 4:16 pm]

BILLING CODE 3510-22-S